DEPARTMENT OF COMMERCE

Foreign-Trade Zones Board

[S-216-2024]

Approval of Subzone Status; Robert Bosch Semiconductor LLC; Roseville, California

On December 10, 2024, the Executive Secretary of the Foreign-Trade Zones (FTZ) Board docketed an application submitted by the Sacramento-Yolo Port District, grantee of FTZ 143, requesting subzone status subject to the existing activation limit of FTZ 143, on behalf of Robert Bosch Semiconductor LLC, in Roseville, California.

The application was processed in accordance with the FTZ Act and Regulations, including notice in the Federal Register inviting public comment (89 FR 101553, December 16, 2024). The FTZ staff examiner reviewed the application and determined that it meets the criteria for approval. Pursuant to the authority delegated to the FTZ Board Executive Secretary (15 CFR 400.36(f)), the application to establish Subzone 143F was approved on June 18, 2025, subject to the FTZ Act and the Board's regulations, including section 400.13, and further subject to FTZ 143's 2,000-acre activation limit.

Dated: June 18, 2025.
Elizabeth Whiteman,
Executive Secretary.

[FR Doc. 2025-11469 Filed 6-20-25; 8:45 am]

BILLING CODE 3510-DS-P